DEPARTMENT OF THE INTERIOR

National Park Service

Notice of Intent To Prepare an Environmental Impact Statement on the Backcountry Management Plan and General Management Plan Amendment for Gates of the Arctic National Park and Preserve

AGENCY: National Park Service, Interior.

ACTION: Backcountry Management Plan, General Management Plan Amendment, and Environmental Impact Statement, Gates of the Arctic National Park and Preserve, Alaska.

SUMMARY: The National Park Service (NPS) is amending the Gates of the Arctic National Park and Preserve General Management Plan with a Backcountry Management Plan and accompanying Environmental Impact Statement (plan/EIS). Gates of the Arctic National Park and Preserve was established by the 1980 Alaska National Interest Lands Conversation Act (ANILCA). With passage of ANILCA, Congress designated 7.2 million acres of wilderness within the park and set forth special provisions for management in recognition of the unique situations and traditional lifeways of Alaska.

The purpose of the plan/EIS is to formulate a comprehensive plan that will provide management direction during the next 15-20 years for the backcountry of Gates of the Arctic National Park and Preserve. The backcountry consists of all of the acreage within the park and preserve boundary, including 7.2 million acres of designated wilderness. Tracts in private ownership are excluded.

Gates of the Arctic National park and Preserve is one of four national park units in Alaska to initiate a backcountry management planning process and GMP amendment. This notice of intent is being published simultaneously with notices to prepare plan/EISs for Glacier Bay National Park and Preserve and Wrangell-St. Elias National Park and Preserve. A plan/EIS for Denali National Park and Preserve is underway (64 FR 49503, September 13, 1999).

The Gates of the Arctic National Park and Preserve plan/EIS is being prepared in response to the increasing level and diversity of activities in the park, resource management and protection needs, and requests for activities and facilities not anticipated or addressed in the 1986 General Management Plan. Specific topics to be addressed in the plan/EIS include, but are not limited to: backcountry hiking, sport hunting, mountaineering, aviation, boating, snowmobiling, dogsledding, commercial services, administrative and scientific/research activities, and the various facilities related to these activities.

The proposed action and other action alternatives will assess variations in the types and levels of backcountry activities and facilities. Toward this end, prescriptive management zones will be described and allocated to park land to provide a spectrum of visitor experience opportunities, resource conditions, and management activities throughout the backcountry of Gates of the Arctic National Park and Preserve. A no-action alternative also will be evaluated.

The NPS requests written and verbal comments about the scope of the planning process (e.g., issues and concerns, alternatives, potential environmental impacts), from federal and state agencies, local government, Native tribes, private organizations, backcountry users, and the general public. Further information on this planning process will be available through public scoping meetings, press releases, web sites, and newsletters. Joint public scoping meetings on the plans/EISs for The Gates of the Arctic National Park and Preserve, Glacier Bay National Park and Preserve, and Wrangell-St. Elias National Park and Preserve will be held in Fairbanks, Anchorage, and Juneau, Alaska, as well as in Seattle, Washington. Additional scoping meeting will be held in communities near the respective parks. The public will be notified in the future of the specific dates, times, and locations of the scoping meeting.

The Gates of the Arctic draft plan/EIS is anticipated to be available for public review in the spring of 2004. Public meetings will be scheduled during the 60-day comment period after release of the draft plan/EIS.

Interested groups, organizations, individuals, and government agencies are invited to comment on the plan. Our practice is to make comments, including names and home addresses of respondents, available for public review during regular business hours. Individual respondents may request that we withhold their home address from the administrative record, which we will honor to the extent allowable by law. There also may be circumstances in which would withhold from the administrative record a respondent's identity, as allowable by law. If you wish us to withhold your name and/or address, you must state this prominently at the beginning of your comment. We will not, however, consider anonymous comments. We will make all submissions from organizations or businesses, and from individuals identifying themselves as representatives or officials of organizations or businesses, available for public inspection in their entirety.

The plan/EIS is being prepared in accordance with the requirements of the National Environmental Policy Act of 1969, as amended (42 U.S.C. 4331 et seq.) and its implementing regulations at 40 CFR part 1500.

FOR FURTHER INFORMATION CONTACT: David D. Mills, Superintendent, Gates of the Arctic National Park and Preserve, 201 First Avenue, Fairbanks, Alaska 99701. Telephone (907) 457-5752.

Dated: August 22, 2002.
Ralph H. Tingey,
Acting Regional Director, Alaska.

[FR Doc. 02-24050 Filed 9-20-02; 8:45 am]

BILLING CODE 4310-70-M